AGENCY FOR INTERNATIONAL DEVELOPMENT

30-Day Notice of Public Information Collections

AGENCY: Agency for International Development.

ACTION: Notice of public information collections.

SUMMARY: The U.S. Agency for International Development (USAID) seeks Office of Management and Budget (OMB) approval for the information collection described below. In accordance with the Paperwork Reduction Act of 1995, USAID requests public comment on this collection from all interested individuals and organizations. This proposed information collection was published in the Federal Register on March 5, 2021 at 86 FR 12901, allowing for a 60-day public comment period. The purpose of this notice is to allow an additional 30 days for public comment. Comments are requested concerning whether the proposed collection of information is necessary for the proper performance of functions of the agency, including the practical utility of the information; the accuracy of USAID's estimate of the burden of the proposed collection of information; ways to enhance the quality, utility, and clarity of the information to be collected; and ways to minimize the burden of the collection of information on respondents.

DATES: Submit comments on or before July 15, 2021.

ADDRESSES: Interested persons are invited to submit comments regarding the proposed information collection to the Office of Information and Regulatory Affairs of OMB, Attention: Desk Officer for USAID.

FOR FURTHER INFORMATION CONTACT: Jacqueline Taylor, at (202) 916-2628 or via email at policymailbox@usaid.gov.

SUPPLEMENTARY INFORMATION: OMB No: 0412-0520.

Form: AID 1420-17.

Title: Contractor Employee Biographical Data Sheet corresponding to AIDAR 752.7001.

Type of Review: Reinstatement, without change, for a previously approved collection for which approval has expired.

The affected public who will be asked or required to respond are Offerors responding to contract solicitations and contractors. An estimate of the total number of respondents and the amount of time estimated for an average respondent to respond is: USAID estimates that 4,877 respondents will submit 33,249 submissions per year. The amount of time estimated to complete each response varies by item. An estimate of the total public burden (in hours) associated with the collections is 43,943.

An estimate of the total public burden (in cost) associated with the collection is $4,054,200. Note that while the burden for these information collections falls on the public, most of the submissions are reimbursable either directly or indirectly under Agency contracts, the cost for most of these collections falls under the federal cost burden. Thus, the estimated total public cost burden not reimbursed through Agency contracts is $57,570.24.

Discussion of Comment: One comment was received regarding the Federal Register Notice published in the Federal Register on March 5, 2021 at 86 FR 12901. The commenter recommended increasing the form block size. He also pointed out that the time needed to complete the form on the form itself doesn't match the time provided on the agency's supporting statement. USAID considered the public comment and determined that the response box size on the form is adequate. USAID did not find any inconsistencies on the Bio-data form. No changes to the form were made as a result of the public comment.

Mark A. Walther,
Senior Procurement Executive.

[FR Doc. 2021-12558 Filed 6-14-21; 8:45 am]

BILLING CODE P